SOCIAL SECURITY ADMINISTRATION

[Docket No: SSA-2016-0059]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB)

Office of Management and Budget, Attn: Desk Officer for SSA, Fax: 202-395-6974, Email address: OIRA_Submission@omb.eop.gov

(SSA)

Social Security Administration, OLCA, Attn: Reports Clearance Director, 3100 West High Rise, 6401 Security Blvd., Baltimore, MD 21235, Fax: 410-966-2830, Email address: OR.Reports.Clearance@ssa.gov

Or you may submit your comments online through www.regulations.gov, referencing Docket ID Number [SSA-2016-0059].

I. The information collection below is pending at SSA. SSA will submit it to OMB within 60 days from the date of this notice. To be sure we consider your comments, we must receive them no later than January 17, 2017. Individuals can obtain copies of the collection instrument by writing to the above email address.

Petition to Obtain Approval of a Fee for Representing a Claimant Before the Social Security Administration—20 CFR 404.1720, 404.1725, 416.1520, and 416.1525—0960-0104. A Social Security claimant's representative, whether an attorney or a non-attorney, uses Form SSA-1560-U4 to petition SSA for authorization to charge and collect a fee. A claimant may also use the form to agree or disagree with the requested fee amount or other information the representative provides on the form. The SSA official responsible for setting the fee uses the information from the form to determine a reasonable fee amount representatives may charge for their services. The respondents are attorneys and non-attorneys who represent Social Security claimants.

Type of Request: Revision of an OMB-approved information collection.

Modality of completion | Number of respondents | Frequency of response | Average burden per response (minutes) | Estimated total annual burden (hours)
SSA-1560-U4 | 44,365 | 1 | 30 | 22,183

II. SSA submitted the information collections below to OMB for clearance. Your comments regarding the information collections would be most useful if OMB and SSA receive them 30 days from the date of this publication. To be sure we consider your comments, we must receive them no later than December 19, 2016. Individuals can obtain copies of the OMB clearance packages by writing to OR.Reports.Clearance@ssa.gov.

1. Request for Corrections of Earnings Record—20 CFR 404.820 and 20 CFR 422.125—0960-0029. Individuals alleging inaccurate earnings records in SSA's files use paper Form SSA-7008, or a personal interview during which SSA employees key their answers into our electronic Earnings Modernization Item Correction system, to provide the information SSA needs to check earnings posted, and, as necessary, initiate development to resolve any inaccuracies. The respondents are individuals who request correction of earnings posted to their Social Security earnings record.

Type of Request: Revision of an OMB-approved information collection.

Modality of completion | Number of respondents | Frequency of response | Average burden per response (minutes) | Estimated total annual burden (hours)
Paper form | 37,500 | 1 | 10 | 6,250
In person or telephone interview | 337,500 | 1 | 10 | 56,250
Totals | 375,000 |  |  | 62,500

2. Supplemental Security Income (SSI)—Quality Review Case Analysis—0960-0133. To assess the SSI program and ensure the accuracy of its payments, SSA conducts legally mandated periodic SSI case analysis quality reviews. SSA uses Form SSA-8508 to conduct these reviews, collecting information on operating efficiency, the quality of underlying policies, and the effect of incorrect payments. SSA also uses the data to determine SSI program payment accuracy rate, which is a performance measure for the agency's service delivery goals. Respondents are recipients of SSI payments selected for quality reviews.

Type of Request: Revision of an OMB approved information collection.

Modality of completion | Number of respondents | Frequency of response | Average burden per response (minutes) | Estimated total annual burden (hours)
SSA-8508-BK (paper interview) | 225 | 1 | 60 | 225
SSA-8508-BK (electronic) | 4,275 | 1 | 60 | 4,275
Totals | 4,500 |  |  | 4,500

3. Application for Supplemental Security Income—20 CFR 416.305-416.335, Subpart C—0960-0444. SSA uses Form SSA-8001-BK to determine an applicant's eligibility for SSI, and SSI payment amounts. SSA employees also collect this information during interviews with members of the public who wish to file for SSI. SSA uses the information for two purposes: (1) To formally deny SSI for non-medical reasons when information the applicant provides results in ineligibility; or (2) to establish a disability claim, but defer the complete development of non-medical issues until SSA approves the disability. The respondents are applicants for SSI.

Type of Request: Revision of an OMB-approved information collection.

Modality of completion | Number of respondents | Frequency of response | Average burden per response (minutes) | Estimated total annual burden (hours)
MSSICS/Signature Proxy | 937,207 | 1 | 20 | 312,402
Non-MSSICS (Paper) | 1,033 | 1 | 20 | 344
Totals | 938,240 |  |  | 312,746

4. Employer Reports of Special Wage Payments—20 CFR 404.428-404.429—0960-0565. SSA collects information on the SSA-131 to prevent earnings-related overpayments, and to avoid erroneous withholding of benefits. SSA field offices and program service centers also use Form SSA-131 for awards and post-entitlement events requiring special wage payment verification from employers. While we need this information to ensure the correct payment of benefits, we do not require employers to respond. The respondents are large and small businesses that make special wage payments to retirees.

Type of Request: Revision of an OMB-approved information collection.

Modality of completion | Number of respondents | Frequency of response | Average burden per response (minutes) | Estimated total annual burden (hours)
Paper Version: SSA-131 (without #6) | 105,000 | 1 | 20 | 35,000
Paper Version: SSA-131 (#6 only) | 1,050 | 1 | 2 | 35
Electronic Version: Business Services Online Special Wage Payments | 26 | 1 | 5 | 2
Totals | 106,076 |  |  | 35,037

5. Social Security Benefits Application—20 CFR 404.310-404.311; 404.315-404.322; 404.330-404.333; 404.601-404.603; and 404.1501-404.1512—0960-0618. Title II of the Social Security Act provides retirement, survivors, and disability benefits to members of the public who meet the required eligibility criteria and file the appropriate application. This collection comprises the various application methods for each type of benefits. SSA uses the information we gather through the multiple information collection tools in this information collection request to determine applicants' eligibility for specific Social Security benefits, as well as the amount of the benefits. Individuals filing for disability benefits can, and in some instances SSA may require them to, file applications under both Title II, Social Security disability benefits, and Title XVI, SSI payments. We refer to disability applications filed under both titles as “concurrent applications.” This collection comprises the various application methods for each type of benefits. These methods include the following modalities: Paper forms (Forms SSA-1, SSA-2, and SSA-16); Modernized Claims System (MCS) screens for in-person interview applications; and Internet-based iClaim and iAppointment applications. SSA uses the information we collect through these modalities to determine: (1) The applicants' eligibility for the above-mentioned Social Security benefits, and (2) the amount of the benefits. The respondents are applicants for retirement, survivors, and disability benefits under Title II of the Social Security Act.

Type of Request: Revision of an OMB-approved information collection.

Form SSA-1
Modality of completion | Number of respondents | Frequency of Response | Average burden per response (minutes) | Estimated total annual burden (hours)
MCS/Signature Proxy | 2,793,597 | 1 | 10 | 465,600
Paper | 115,678 | 1 | 11 | 21,208
Medicare-only MCS | 880,763 | 1 | 7 | 102,756
Medicare-only Paper | 9,549 | 1 | 7 | 1,114
Totals | 3,779,587 |  |  | 590,678

Form SSA-2
Modality of completion | Number of respondents | Frequency of response | Average burden per response (minutes) | Estimated total annual burden (hours)
MCS/Signature Proxy | 518,598 | 1 | 14 | 121,006
Paper | 54,661 | 1 | 15 | 13,665
Totals | 573,259 |  |  | 134,671

Form SSA-16
Modality of completion | Number of respondents | Frequency of response | Average burden per response (minutes) | Estimated total annual burden (hours)
MCS/Signature Proxy | 2,483,952 | 1 | 19 | 786,585
Paper | 116,294 | 1 | 20 | 38,765
Totals | 2,600,246 |  |  | 825,350

iClaim Screens
Modality of completion | Number of respondents | Frequency of response | Average burden per response (minutes) | Estimated total annual burden (hours)
iClaim 3rd Party | 345,267 | 1 | 15 | 86,317
iClaim Applicant after 3rd Party Completion | 345,267 | 1 | 5 | 28,772
First Party iClaim—Domestic Applicant | 2,956,208 | 1 | 15 | 739,052
First Party iClaim—Foreign Applicant | 11,650 | 1 | 3 | 583
Medicare-only iClaim | 723,062 | 1 | 10 | 120,510
Totals | 4,381,454 |  |  | 975,234

iAppointment Screens
Modality of completion | Number of respondents | Frequency of response | Average burden per response (minutes) | Estimated total annual burden (hours)
iAppointment | 20,218 | 1 | 10 | 3,370

Grand Total
Modality of completion | Number of respondents | Frequency of response | Average burden per response (minutes) | Estimated total annual burden (hours)
Total | 11,374,764 |  |  | 2,529,303

Dated: November 11, 2016.
Naomi R. Sipple,
Reports Clearance Officer, Social Security Administration.

[FR Doc. 2016-27627 Filed 11-16-16; 8:45 am]

BILLING CODE 4191-02-P